DEPARTMENT OF DEFENSE

Defense Acquisition Regulations System

[OMB Control Number 0704-0252]

Information Collection Requirement; Defense Federal Acquisition Regulation Supplement; Part 251, Contractor Use of Government Supply Sources

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through November 30, 2010. DoD proposes that OMB extend its approval for these collections to expire three years after the approval date.

DATES: DoD will consider all comments received by September 13, 2010.

ADDRESSES: You may submit comments, identified by OMB Control Number 0704-0252, using any of the following methods:

○ Federal eRulemaking Portal: http://www.regulations.gov. Follow the instructions for submitting comments.

○ E-mail: dfars@acq.osd.mil. Include OMB Control Number 0704-0252 in the subject line of the message.

○ Fax: (703) 602-0350.

○ Mail: Defense Acquisition Regulations System, Attn: Ms. Meredith Murphy, OUSD(AT&L)DPAP(DARS), 3060 Defense Pentagon, Room 3B855, Washington, DC 20301-3060.

Comments received generally will be posted without change to http://www.regulations.gov, including any personal information provided.

FOR FURTHER INFORMATION CONTACT: Ms. Meredith Murphy, 703-602-1302. The information collection requirements addressed in this notice are available electronically via the Internet at: http://www.acq.osd.mil/dp/dars/dfars.html.

Paper copies are available from Ms. Meredith Murphy, OUSD(AT&L)DPAP(DARS), 3060 Defense Pentagon, Room 3B855, Washington, DC 20301-3060.

SUPPLEMENTARY INFORMATION: Title, Associated Form, and OMB Number: Defense Federal Acquisition Regulation Supplement (DFARS) Part 251, Contractor Use of Government Supply Sources, and the associated clauses at DFARS 252.251-7000, Ordering from Government Supply Sources; and 252.251-7001, Use of Interagency Fleet Management System (IFMS) Vehicles and Related Services; OMB Control Number 0704-0252.

Needs and Uses: This information collection permits contractors to—

• Place orders under Federal Supply Schedule contracts and requirements contracts or for Government stock. The information enables DoD to evaluate whether a contractor is authorized to place such orders.

• Submit requests for use of Government vehicles under the Interagency Fleet Management System (IFMS) and obtain related services. The information submitted enables DoD to evaluate whether the contractor is authorized such use.

Affected Public: Businesses or other for-profit and not-for-profit institutions.

Annual Burden Hours: 5,250.

Number of Respondents: 3,500.

Responses per Respondent: approximately 3.

Annual Responses: 10,500.

Average Burden per Response: approximately 30 minutes.

Frequency: On occasion.

Summary of Information Collection

The clause at DFARS 252.251-7000, Ordering from Government Supply Sources, requires a contractor to provide a copy of an authorization when placing an order under a Federal Supply Schedule, a Personal Property Rehabilitation Price Schedule, or an Enterprise Software Agreement.

The clause at DFARS 252.251-7001, Use of Interagency Fleet Management System Vehicles and Related Services, requires a contractor to submit a request for use of Government vehicles when the contractor is authorized to use such vehicles in the performance of Government contracts.

Ynette R. Shelkin,
Editor, Defense Acquisition Regulations System.

[FR Doc. 2010-17256 Filed 7-14-10; 8:45 am]

BILLING CODE 5001-08-P